POSTAL SERVICE

Sunshine Act Meeting

Time and Date: 12 p.m., Tuesday, June 19, 2007.

Place: Washington, DC, at U.S. Postal Service Headquarters, 475 L'Enfant Plaza, SW.

Status: Closed.

Matters to be Considered:

Tuesday, June 19 at 12 p.m. (Closed)

1. Strategic Issues.

2. Postal Regulatory Commission Second Opinion and Recommended Decision on Reconsideration in Docket No. R2006-1, Postal Rate and Fee Changes.

3. Rate Case Update.

4. Labor Negotiations Update.

5. Financial Update.

6. Personnel Matters and Compensation Issues.

7. Governors' Executive Session—Discussion of prior agenda items and Board Governance.

Contact Person for More Information: Wendy A. Hocking, Secretary of the Board, U.S. Postal Service, 475 L'Enfant Plaza, SW., Washington, DC 20260-1000. Telephone (202) 268-4800.

Wendy A. Hocking,
Secretary.

[FR Doc. 07-2914 Filed 6-7-07; 4:36 pm]

BILLING CODE 7710-12-M